DEPARTMENT OF TRANSPORTATION

Maritime Administration

[Docket No. MARAD-2025-0432]

Request for Comments on the Renewal of a Previously Approved Collection: Generic Clearance for the Collection of Qualitative Feedback on Agency Service Delivery

AGENCY: Maritime Administration, DOT.

ACTION: Notice.

SUMMARY: The Maritime Administration (MARAD) invites public comments on its intention to request Office of Management and Budget (OMB) approval to renew an information collection in accordance with the Paperwork Reduction Act of 1995. The proposed collection OMB 2133-0543 (Generic Clearance for the Collection of Qualitative Feedback on Agency Service Delivery) is used to identify strengths and weaknesses of current services and make improvements in MARAD service delivery. There are no changes since the last renewal. MARAD is required to publish this notice in the Federal Register to obtain comments from the public and affected agencies.

ADDRESSES: Written comments and recommendations for the proposed information collections should be sent within 30 days of publication of this notice to www.reginfo.gov/public/do/PRAMain. Find this information collection by selecting “Currently under 30-day Review—Open for Public Comments” or by using the search function.

FOR FURTHER INFORMATION CONTACT: Tamelia Bolton, 202-366-4623, Office of Management and Administrative Services, U.S. Maritime Administration, Department of Transportation, 1200 New Jersey Ave. SE, Washington, DC 20590, Email: Tamelia.Bolton@dot.gov.

SUPPLEMENTARY INFORMATION:

Title: Generic Clearance for the Collection of Qualitative Feedback on Agency Service Delivery.

OMB Control Number: 2133-0543.

Type of Request: Extension of a previously approved information collection.

Abstract: This collection of information allows MARAD to garner customer and stakeholder feedback in an efficient and timely manner, in accordance with our commitment to improving service delivery.

Respondents: Individuals and Households, Businesses and Organizations, State, Local or Tribal Government.

Affected Public: Business or other for profit.

Estimated Number of Respondents: 6,000.

Estimated Number of Responses: 6,000.

Estimated Hours per Response: 10-120 minutes.

Annual Estimated Total Annual Burden Hours: 1,958.

Frequency of Response: Once Annually.

A 60-day Federal Register Notice soliciting comments on this information collection was published on May 28, 2025 (90 Federal Register (FR) 22567).

(Authority: The Paperwork Reduction Act of 1995; 44 U.S.C. Chapter 35, as amended; and 49 CFR 1.49.)

By Order of the Maritime Administration.
T. Mitchell Hudson, Jr.,
Secretary, Maritime Administration.

[FR Doc. 2025-15600 Filed 8-14-25; 8:45 am]

BILLING CODE 4910-81-P